DEPARTMENT OF HEALTH AND HUMAN SERVICES

Centers for Disease Control and Prevention

The National Center for Chronic Disease Prevention and Health Promotion

In accordance with section 10(a)(2) of the Federal Advisory Committee Act (Pub. L. 92-463), the Centers for Disease Control and Prevention announces the following meeting.

Name: Interagency Committee on Smoking and Health: Meeting.

Time And Date: 9 a.m.-4:30 p.m., March 5, 2007.

Place: Ronald Reagan International Trade Center, Horizon Ballroom, 1300 Pennsylvania Avenue, NW., Washington, DC 20004, telephone (202) 312-1300.

Status: Open to the public, limited only by the space available. Those who wish to attend are encouraged to register with the contact person listed below. If you will require a sign language interpreter, or have other special needs, please notify the contact person by 4:30 p.m. Eastern Standard Time on February 26, 2007.

Purpose: The Interagency Committee on Smoking and Health advises the Secretary, Department of Health and Human Services, and the Assistant Secretary for Health in the (a) coordination of all research and education programs and other activities within the Department and with other Federal, State, local and private agencies and (b) establishment and maintenance of liaison with appropriate private entities, federal agencies, and state and local public health agencies with respect to smoking and health activities.

Matters To Be Discussed: The agenda will focus on “Reducing the Exposure to Second Hand Smoke.”

Contact Person For More Infomation: Substantive program information as well as summaries of the meeting and roster of committee members may be obtained from the Internet at http://www.cdc.gov/tobacco in mid-April or from Ms. Monica L. Swann, Management and Program Analyst, Office on Smoking and Health, Centers for Disease Control and Prevention, 4770 Buford Highway, M/S K50, Atlanta, GA 30341, (770) 488-5278. Agenda items are subject to change as priorities dictate.

The Director, Management Analysis and Services Office, has been delegated the authority to sign Federal Register notices pertaining to announcements of meetings and other committee management activities, for both the Centers for Disease Control and Prevention and the Agency for Toxic Substances and Disease Registry.

Elaine L. Baker,
Acting Director, Management Analysis and Service Office, Centers for Disease Control and Prevention.

[FR Doc. E7-2422 Filed 2-12-07; 8:45 am]

BILLING CODE 4163-18-P